DEPARTMENT OF HEALTH AND HUMAN SERVICES

Centers for Disease Control and Prevention

Notice of Award of a Single-Source Cooperative Agreement To Fund Addis Ababa City Administration Health Bureau of Ethiopia

AGENCY: Centers for Disease Control and Prevention (CDC), Department of Health and Human Services (HHS).

ACTION: Notice.

SUMMARY: The Centers for Disease Control and Prevention (CDC), located within the Department of Health and Human Services (HHS), announces the award of approximately $10,000,000 for Year 1 of funding to the Addis Ababa City Administration Health Bureau of Ethiopia (AACAHB) to ensure continuity of quality comprehensive HIV/AIDS prevention, care, and treatment services for controlling the HIV epidemic activities in Addis Ababa City Administration of Ethiopia. The award will help the city close gaps to achieve the 95-95-95 goals (95% of HIV-positive individuals knowing their status, 95% of those receiving ART [Antiretroviral therapy], and 95% of those achieving viral suppression) and reach HIV epidemic control. Funding amounts for years 2-5 will be set at continuation.

DATES: The period for this award will be September 30, 2022 through September 29, 2027.

FOR FURTHER INFORMATION CONTACT: Tesfaye Desta, Center for Global Health, Centers for Disease Control and Prevention, U.S. Embassy—Addis Ababa, Entoto Road, Addis Ababa, Ethiopia, Telephone: 800-232-6348, Email: hmz4@cdc.gov.

SUPPLEMENTARY INFORMATION: The single-source award will implement prevention, testing and counselling, prevention of mother to child transmission, care and treatment, laboratory, Strategic Information (M&E, Surveillance, HIS), TB/HIV and other public health need affecting HIV/AIDS programming like COVID in the capital city of Ethiopia, Addis Ababa.

The purpose of this award is to continue supporting the strengthening of public health response and programs, including but not limited to HIV/AIDS, in the Addis Ababa City. AACAHB is the only government entity with a legal authority and mandate to plan, manage, administer, and coordinate all health-related activities in the city.

Summary of the Award

Recipient: Addis Ababa City Administration Health Bureau of Ethiopia.

Purpose of the Award: The purpose of this award is to ensure continuity of quality comprehensive HIV/AIDS prevention, care, and treatment services for controlling the HIV epidemic activities in Addis Ababa City Administration of Ethiopia. This NOFO will help the city close gaps to achieve the 95-95-95 goals and reach HIV epidemic control.

Amount of Award: The approximate year 1 funding amount will be $10,000,000 in Federal Fiscal Year (FFY) 2022 funds, subject to the availability of funds. Funding amounts for years 2-5 will be set at continuation.

Period of Performance: September 30, 2022 through September 29, 2027.

Authority: Public Law 108-25 (the United States Leadership Against HIV AIDS, Tuberculosis and Malaria Act of 2003).

Dated: September 6, 2022.
Terrance Perry,
Chief Grants Management Officer, Centers for Disease Control and Prevention.

[FR Doc. 2022-19566 Filed 9-9-22; 8:45 am]

BILLING CODE 4163-18-P